FEDERAL COMMUNICATIONS COMMISSION

47 CFR Part 73

[MB Docket No. 16-29; RM-11758; DA 16-543]

Television Broadcasting Services; Scottsbluff, Nebraska and Sidney, Nebraska

AGENCY: Federal Communications Commission.

ACTION: Final rule.

SUMMARY: At the request of Gray Television License, LLC, licensee of station KDUH-TV, Channel 7, Scottsbluff, Nebraska, and New Rushmore Radio, Inc., former licensee of KDUH-TV (collectively, Petitioners), the Commission has before it an unopposed Notice of Proposed Rulemaking seeking to amend the Post-Transition Table of DTV Allotments to delete channel 7 at Scottsbluff, Nebraska and to substitute channel 7 at Sidney, Nebraska. Petitioners further request modification of KDUH-TV's license to specify Sidney as the station's community of license. Petitioners assert that their proposal to reallot channel 7 to Sidney is based on the technical specifications currently authorized for KDUH-TV and, therefore, the new allotment will be mutually exclusive with the station's existing allotment. Petitioners further state that their proposal would meet the Commission's allotment priorities by providing Sidney with its first local television service. and that Scottsbluff would remain well-served after the proposed reallotment because full-power television station KSTF(TV), channel 29, would remain licensed to that community.

DATES: Effective July 5, 2016.

FOR FURTHER INFORMATION CONTACT: Adrienne Denysyk, Adrienne.Denysyk@fcc.gov, Media Bureau, (202) 418-2651.

SUPPLEMENTARY INFORMATION: This is a synopsis of the Commission's Report and Order, MB Docket No. 16-29, adopted and released May 16, 2016. The full text of this document is available for public inspection and copying during normal business hours in the FCC's Reference Information Center at Portals II, CY-A257, 445 12th Street SW., Washington, DC, 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, see 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.622 [Amended]

2. Amend § 73.622(i), the Post-Transition Table of DTV Allotments under Nebraska, by removing channel 7 at Scottsbluff and adding, in alphabetical order, Sidney, channel 7.

[FR Doc. 2016-12603 Filed 6-2-16; 8:45 am]

BILLING CODE 6712-01-P